DEPARTMENT OF HEALTH AND HUMAN SERVICES

National Institutes of Health

Center for Scientific Review; Amended Notice of Meeting

Notice is hereby given of a change in the meeting of the Synthetic and Biological Chemistry A Study Section, October 21, 2013, 08:00 a.m. to October 22, 2013, 12:00 p.m., Hotel Palomar, 2121 P Street NW., Washington, DC, 20037 which was published in the Federal Register on September 26, 2013, 78 FR 59361.

The meeting will be held at the National Institutes of Health, 6701 Rockledge Drive, Bethesda, MD 20892. The meeting will start on December 18, 2013 at 09:00 a.m. and end on December 20, 2013 at 05:00 p.m. The meeting is closed to the public.

Dated: October 23, 2013.
David Clary,
Program Analyst, Office of Federal Advisory Committee Policy.

[FR Doc. 2013-25502 Filed 10-28-13; 8:45 am]

BILLING CODE 4140-01-P